ENVIRONMENTAL PROTECTION AGENCY

[FRL-6587-5]

Clean Water Act Section 303(d): Availability of Total Maximum Daily Loads (TMDLs) and Determinations That TMDLs Are Not Needed

AGENCY: Environmental Protection Agency (EPA).

ACTION: Notice of availability, comment period extended.

SUMMARY: This notice extends the comment period of the Federal Register notice published at 65 FR 19762 on April 12, 2000.

DATES: Comments must be submitted to EPA on or before May 31, 2000.

ADDRESSES: Comments should be sent to Ellen Caldwell, Environmental Protection Specialist, Water Quality Protection Division, U.S. Environmental Protection Agency Region 6, 1445 Ross Ave., Dallas, TX 75202-2733. For further information, contact Ellen Caldwell at (214) 665-7513.

Dated: April 24, 2000.
William B. Hathaway,
Director, Water Quality Protection Division, Region 6.

[FR Doc. 00-11144 Filed 5-3-00; 8:45 am]

BILLING CODE 6560-50-P